DEPARTMENT OF TRANSPORTATION

Surface Transportation Board

[Finance Docket No. 34040]

Riverview Trenton Railroad Company—Acquisition and Operation—In Wayne County, MI

AGENCY: Surface Transportation Board.

ACTION: Notice of Availability of Environmental Assessment and Request for Comments.

SUMMARY: The Riverview Trenton Railroad Company (RTRR) has petitioned the Surface Transportation Board (Board) for authority to acquire and operate a rail line approximately 1.5 miles in length in Wayne County, Michigan, to serve a proposed intermodal facility. The Board's Section of Environmental Analysis (SEA) has prepared an environmental assessment (EA) for this project. Based on the information provided and the environmental analysis conducted to date, the EA preliminarily concludes that this proposal should not significantly affect the quality of the human environment if the recommended mitigation measures set forth in the EA are implemented. Accordingly, SEA recommends that, if the Board approves this project, RTRR be required to implement the mitigation set forth in the EA. Copies of the EA have been served on all interested parties and will be made available to additional parties upon request. SEA will consider all comments received when making its final environmental recommendations to the Board. The Board will then consider SEA's final recommendations and the complete environmental record in making its final decision in this proceeding.

DATES: The EA is available for public review and comment. Comments are due by November 14, 2001.

ADDRESSES: Comments (an original and 10 copies) regarding this EA should be submitted in writing to: Section of Environmental Analysis, Surface Transportation Board, 1925 K Street, NW., Washington, DC 20423, to the attention of Kenneth Blodgett.

FOR FURTHER INFORMATION CONTACT: Kenneth Blodgett, (202) 565-1554 (TDD for the hearing impaired (1-800-877-83439). To obtain a copy of the EA, contact Da-2-Da Office Solutions, 1925 K Street, NW., Washington, DC 20006, phone (202) 293-7776 or visit the Board's website at “www.stb.dot.gov”.

By the Board, Victoria Rutson, Chief, Section of Environmental Analysis.
Vernon A. Williams,
Secretary.

[FR Doc. 01-25237 Filed 10-12-01; 8:45 am]

BILLING CODE 4915-00-P